DEPARTMENT OF JUSTICE

Antitrust Division

Notice Pursuant to the National Cooperative Research and Production Act of 1993—Information Warfare Research Project Consortium

Notice is hereby given that, on April 9, 2025, pursuant to section 6(a) of the National Cooperative Research and Production Act of 1993, 15 U.S.C. 4301 et seq. (“the Act”), Information Warfare Research Project Consortium (“IWRP”) has filed written notifications simultaneously with the Attorney General and the Federal Trade Commission disclosing changes in its membership. The notifications were filed for the purpose of extending the Act's provisions limiting the recovery of antitrust plaintiffs to actual damages under specified circumstances. Specifically, Adapt Forward LLC, North Charleston, SC; Atlantic Diving Supply, Inc., Virginia Beach, VA; Cloudera Government Solutions, Inc., McLean, VA; Collaboration Link LLC, Shreveport, LA; DataRobot Government Solutions, Inc., Boston, MA; Decisive LLC, Litchfield Park, AZ; Design Interactive, Inc., Orlando, FL; Diversified Technologies, Inc., Bedford, MA; Exponent, Inc., Menlo Park, CA; Gradient Marine, San Diego, CA; Highbury Defense Group LLC, San Diego, CA; Industry Defense Systems LLC, Lansdale, PA; Merge Plot LLC, Bala Cynwyd, PA; Nakupuna Consulting LLC, Arlington, VA; Nightwing Technologies, Inc., Herndon, VA; Product Development Associates, Inc., Burnsville, MN; Red Research Group LLC, Southern Pines, NC; Rune Technologies, Inc., Alexandria, VA; Skyward Federal LLC, Colorado Springs, CO; Strategic Technical Services LLC, Carmel, IN; Willowview Consulting LLC, Eagle, ID; and Zapata Technology, Inc., Augusta, GA, have been added as parties to this venture.

Also, Alirrium LLC, Reston, VA; Anokiwave, Inc., Billerica, MA; Anritsu Company, Morgan Hill, CA; Applied Insight LLC, Tysons, VA; Blacksky Geospatial Solutions, Inc., Herndon, VA; Carnegie Mellon University, Pittsburgh, PA; DZYNE Technologies, Inc., Fairfax, VA; FedLearn, Inc., Alexandria, VA; G3 Technologies, Inc., Columbia, MD; Integrated Consultants, Inc., San Diego, CA; Iron EagleX, Inc., Tampa, FL; IT Partners, Inc., Herndon, VA; JMA Resources, Inc., Mechanicsburg, PA; La Jolla Logic, San Diego, CA; Logistic Specialties, Inc., Layton, UT; Millennium Corp., Arlington, VA; Na Ali'i Consulting & Sales LLC, Honolulu, HI; NetNumber, Inc., Lowell, MA; Platform Systems, Inc., Hollywood, MD; Robbins-Gioia LLC, Alexandria, VA; Saildrone, Inc., Alameda, CA; Steampunk, Inc., McLean, VA; Teal Stratus Technologies LLC, Fort Mill, SC; TQI Solutions, Inc., Norfolk, VA; TVAR Solutions LLC, McLean, VA; Ventus Executive Solutions LLC, Fairfax, VA; Verizon Business Network Services, Inc., Ashburn, VA; XCOM-Labs, Inc., San Diego, CA; and XSB, Inc., East Setauket, NY, have withdrawn as parties to this venture.

No other changes have been made in either the membership or planned activity of the group research project. Membership in this group research project remains open, and IWRP Consortium intends to file additional written notifications disclosing all changes in membership.

On October 15, 2018, IWRP Consortium filed its original notification pursuant to section 6(a) of the Act. The Department of Justice published a notice in the Federal Register pursuant to section 6(b) of the Act on October 23, 2018 (83 FR 53499).

The last notification was filed with the Department on January 28, 2025. A notice was published in the Federal Register pursuant to section 6(b) of the Act on February 28, 2025 (90 FR 10948).

Suzanne Morris,
Deputy Director Civil Enforcement Operations, Antitrust Division.

[FR Doc. 2025-06922 Filed 4-22-25; 8:45 am]

BILLING CODE P